OFFICE OF PERSONNEL MANAGEMENT

5 CFR Part 870

RIN 3206-AN04

Federal Employees' Group Life Insurance Program: Providing Option C Coverage for Children of Same-Sex Domestic Partners; Withdrawal

AGENCY: U.S. Office of Personnel Management.

ACTION: Notice of proposed rulemaking; withdrawal.

SUMMARY: The United States Office of Personnel Management (OPM) hereby withdraws a notice of proposed rulemaking (NPRM) to amend the Federal Employees' Group Life Insurance (FEGLI) regulations to allow children of same-sex domestic partners living in states that do not allow same-sex couples to marry to be covered as family members under an eligible individual's FEGLI Option C enrollment.

DATES: The proposed rule, published on October 15, 2014, in the Federal Register (79 FR 61788 -61790), is withdrawn as of November 10, 2015.

FOR FURTHER INFORMATION CONTACT: Ronald Brown, Policy Analyst, (202) 606-0004, or by email to Ronald.Brown@opm.gov.

SUPPLEMENTARY INFORMATION: The Office of Personnel Management is withdrawing the proposed rule published October 15, 2014 entitled, “Federal Employees' Group Life Insurance Program: Providing Option C Coverage for Children of Same-Sex Domestic Partners” (79 FR 61788-61790). The proposed regulation would have allowed children of same-sex domestic partners living in states that do not allow same-sex couples to marry to be covered as family members under an eligible individual's FEGLI Option C enrollment. On June 26, 2015, the United States Supreme Court ruled in Obergefell v. Hodges that the Fourteenth Amendment requires a State to license a marriage between two people of the same sex and to recognize a marriage between two people of the same sex when their marriage was lawfully licensed and performed out-of-State. As a result, all states are required to allow same-sex couples to marry, meaning no additional children would be eligible for coverage based on the proposed rule. For this reason, the Office of Personnel Management withdraws the proposed rule to amend the FEGLI regulation to allow children of same-sex domestic partners living in states that do not allow same-sex couples to marry to be covered as family members under an eligible individual's FEGLI Option C enrollment.

U.S. Office of Personnel Management.
Beth F. Cobert,
Acting Director.

[FR Doc. 2015-28569 Filed 11-9-15; 8:45 am]

BILLING CODE 6325-63-P